OFFICE OF MANAGEMENT AND BUDGET

Committee Management; Notice of Establishment

Name of Committee: Performance Measurement Advisory Council.

AGENCY: Office of Management and Budget, Executive Office of the President.

ACTION: Notice of Federal Advisory Committee Establishment.

SUMMARY: The Director of the Office of Management and Budget (“OMB”) has determined that the establishment of the Performance Measurement Advisory Council (“PMAC”) is necessary and is in the public interest in connection with the performance of his duties. This determination follows consultation with the Committee Management Secretariat, General Services Administration.

FOR FURTHER INFORMATION CONTACT: Matthew Schneider, Assistant General Counsel, Office of Management and Budget, Washington, DC 20503. Telephone (202) 395-3503 (not a toll-free call).

Purpose and Objectives: The Performance Measurement Advisory Council will provide independent expert advice and recommendations to the Office of Management and Budget regarding measures of program performance and the use of such measures in making management and budget decisions. Council members will advise OMB regarding the particular processes and means utilized to assess the effectiveness of Federal programs and initiatives. Council members will draw upon their expertise in creating, implementing and evaluating performance measurement standards and will make recommendations regarding the types of measures and benchmarking systems that departments and agencies can employ most effectively to track program performance.

The Council's proposed functions are essential to OMB's successful implementation of an effective system of program evaluation. The independent expert advice and recommendations sought through this Council cannot be provided internally by OMB, by another existing committee, or by other means such as a public hearing.

Balanced Membership Plans: The Council shall consist of approximately six members. Every effort shall be made to select Council members who are outstanding in their professional field and who are objective. A balance is needed and individuals with expertise in performance measurement are essential. In selecting Council members, weight is given to viewpoint diversity, expertise in performance measurement, and professional qualifications.

Duration: The Council shall exist for nine months from the date of the Charter, unless earlier renewed.

Designated Federal Officer: Mr. Thomas M. Reilly, Chief, Public Health Branch, Executive Office of the President; Office of Management and Budget, 7002 New Executive Office Building, Washington, DC 20503. Telephone: 202-395-4926; Facsimile: 202-395-5648; Email: Thomas__Reilly@omb.eop.gov.

Dated: May 21, 2002.
Mitchell E. Daniels, Jr.,
Director, Office of Management and Budget.

[FR Doc. 02-13308 Filed 5-28-02; 8:45 am]

BILLING CODE 3110-01-P